FEDERAL TRADE COMMISSION

Agency Information Collection Activities; Proposed Collection; Comment Request; Extension

AGENCY: Federal Trade Commission.

ACTION: Notice.

SUMMARY: In accordance with the Paperwork Reduction Act of 1995 (“PRA”), the Federal Trade Commission (“FTC” or “Commission”) is seeking public comment on its proposal to extend for an additional three years the Office of Management and Budget clearance for information collection requirements in its rule governing Care Labeling of Textile Wearing Apparel and Certain Piece Goods As Amended (“Care Labeling Rule”). The current clearance expires on May 31, 2021.

DATES: Comments must be filed by January 11, 2021.

ADDRESSES: Interested parties may file a comment online or on paper, by following the instructions in the Request for Comment part of the SUPPLEMENTARY INFORMATION section below. Write “Care Labeling Rule: FTC File No. P072108,” on your comment and file your comment online at https://www.regulations.gov, by following the instructions on the web-based form. If you prefer to file your comment on paper, mail your comment to the following address: Federal Trade Commission, Office of the Secretary, 600 Pennsylvania Avenue NW, Suite CC-5610 (Annex J), Washington, DC 20580, or deliver your comment to the following address: Federal Trade Commission, Office of the Secretary, Constitution Center, 400 7th Street SW, 5th Floor, Suite 5610 (Annex J), Washington, DC 20024.

FOR FURTHER INFORMATION CONTACT: Hampton Newsome, Attorney, Division of Enforcement, Bureau of Consumer Protection, Federal Trade Commission, Mail Code CC-9528, 600 Pennsylvania Ave. NW, Washington, DC 20580, (202) 326-2889.

SUPPLEMENTARY INFORMATION: Title of Collection: Care Labeling of Textile Wearing Apparel and Certain Piece Goods As Amended, 16 CFR 423.

OMB Control Number: 3084-0103.

Type of Review: Extension of currently approved collection.

Affected Public: Private Sector: Businesses and other for-profit entities.

Estimated Annual Burden Hours: 27,489,476 hours.

Estimated Annual Labor Costs: $187,184,518.

Abstract: The Care Labeling Rule requires manufacturers and importers of textile wearing apparel and certain piece goods to attach labels to their products disclosing the care needed for the ordinary use of the product. The Rule also requires manufacturers or importers to possess a reasonable basis for care instructions, and allows the use of approved care symbols in lieu of words to disclose those instructions.

Burden Statement: Staff estimates that approximately 10,744 manufacturers or importers of textile apparel, producing about 18.4 billion textile garments annually, are subject to the Rule's disclosure requirements. Staff estimates the burden of determining care instructions to be 100 hours each year per firm, for a cumulative total of 1,074,400 hours. Staff further estimates that the burden of drafting and providing labels is 80 hours each year per firm, for a total of 859,520 hours. Staff believes that the process of attaching labels is fully automated and integrated into other production steps for about 50 percent (approximately, 9.2 billion) of the approximately 18.4 billion garments that are required to have care instructions on permanent labels. For the remaining 9.2 billion items, the process is semi-automated and requires an average of approximately ten seconds per item, for a total of 25,555,556 hours per year. Thus, the total estimated annual burden for all firms is 27,489,476 hours.

The chart below summarizes the total estimated costs.

Task | Hourly rate ¹ | Burden hours | Labor cost
Determine care instructions | $29.00 | 1,074,400 | $31,157,600
Draft and order labels | 18.00 | 859,520 | 15,471,360
Attach labels | ² 5.50 | 25,555,556 | 140,555,558
Total |  |  | 187,184,518

Staff believes that there are no current start-up costs or other capital costs associated with the Care Labeling Rule. Because the labeling of textile products has been an integral part of the manufacturing process for decades, manufacturers have in place the capital equipment necessary to comply with the Rule's labeling requirements. Based on knowledge of the industry, staff believes that much of the information required by the Rule would be included on the product label even absent those requirements.

¹ All hourly rates except for “Attach labels” are rounded to the nearest dollar and drawn from the U.S. Dep't of Labor, Bureau of Labor Statistics, “Table 1. National employment and wage data from the Occupational Employment Statistics survey by occupation, May 2019,” at https://www.bls.gov/news.release/ocwage.t01.htm. The hourly labor cost estimate for determining care instructions is based on mean hourly rates for Office and Administrative Support Supervisors and the estimate for drafting and ordering labels is based on mean hourly rates for Information and Record Clerks.

² For imported products, the labels generally are attached in the country where the products are manufactured. According to information compiled by an industry trade association using data from the U.S. Department of Commerce, International Trade Administration and the U.S. Census Bureau, approximately 97.5% of apparel purchased in the United States is imported. With the remaining 2.5% attributable to U.S. production at an approximate domestic hourly wage of $12 to attach labels (derived from the U.S. Dep't of Labor, Bureau of Labor Statistics, “Occupational Employment Statistics—May 2019” which is cited in footnote 1), staff has calculated a weighted average hourly wage of $5.50 per hour attributable to U.S. and foreign labor combined. Wages in major textile exporting countries, factored into the above hourly wage estimate, were based on data from the U.S. Department of Labor, Bureau of Labor Statistics, available at: http://www.bls.gov/fls/#compensation.

Request for Comment: Pursuant to Section 3506(c)(2)(A) of the PRA, the FTC invites comments on: (1) Whether the disclosure requirements are necessary, including whether the information will be practically useful; (2) the accuracy of our burden estimates, including whether the methodology and assumptions used are valid; (3) ways to enhance the quality, utility, and clarity of the information to be collected; and (4) ways to minimize the burden of providing the required information to consumers. All comments should be filed as prescribed in the ADDRESSES section above, and must be received on or before January 11, 2021.

You can file a comment online or on paper. For the Commission to consider your comment, we must receive it on or before January 11, 2021. Write “Care Labeling Rule: FTC File No. P072108” on your comment. Postal mail addressed to the Commission is subject to delay due to heightened security screening. As a result, we encourage you to submit your comments online. To make sure that the Commission considers your online comment, you must file it through the https://www.regulations.gov website by following the instructions on the web-based form provided. Your comment, including your name and your state—will be placed on the public record of this proceeding, including the https://www.regulations.gov website.

If you file your comment on paper, write “Care Labeling Rule: FTC File No. P072108” on your comment and on the envelope, and mail your comment to the following address: Federal Trade Commission, Office of the Secretary, 600 Pennsylvania Avenue NW, Suite CC-5610 (Annex J), Washington, DC 20580, or deliver your comment to the following address: Federal Trade Commission, Office of the Secretary, Constitution Center, 400 7th Street SW, 5th Floor, Suite 5610, Washington, DC 20024. If possible, please submit your paper comment to the Commission by courier or overnight service.

Because your comment will be placed on the public record, you are solely responsible for making sure that your comment does not include any sensitive or confidential information. In particular, your comment should not include any sensitive personal information, such as your or anyone else's Social Security number; date of birth; driver's license number or other state identification number, or foreign country equivalent; passport number; financial account number; or credit or debit card number. You are also solely responsible for making sure that your comment does not include any sensitive health information, such as medical records or other individually identifiable health information. In addition, your comment should not include any “trade secret or any commercial or financial information which . . . is privileged or confidential”—as provided by Section 6(f) of the FTC Act, 15 U.S.C. 46(f), and FTC Rule 4.10(a)(2), 16 CFR 4.10(a)(2)—including in particular competitively sensitive information such as costs, sales statistics, inventories, formulas, patterns, devices, manufacturing processes, or customer names.

Comments containing material for which confidential treatment is requested must be filed in paper form, must be clearly labeled “Confidential,” and must comply with FTC Rule 4.9(c). In particular, the written request for confidential treatment that accompanies the comment must include the factual and legal basis for the request, and must identify the specific portions of the comment to be withheld from the public record. See FTC Rule 4.9(c). Your comment will be kept confidential only if the General Counsel grants your request in accordance with the law and the public interest. Once your comment has been posted on the public FTC website—as legally required by FTC Rule 4.9(b)—we cannot redact or remove your comment from the FTC website, unless you submit a confidentiality request that meets the requirements for such treatment under FTC Rule 4.9(c), and the General Counsel grants that request.

The FTC Act and other laws that the Commission administers permit the collection of public comments to consider and use in this proceeding as appropriate. The Commission will consider all timely and responsive public comments that it receives on or before January 11, 2021. For information on the Commission's privacy policy, including routine uses permitted by the Privacy Act, see https://www.ftc.gov/site-information/privacy-policy.

Josephine Liu,
Assistant General Counsel for Legal Counsel.

[FR Doc. 2020-25035 Filed 11-10-20; 8:45 am]

BILLING CODE 6750-01-P